DEPARTMENT OF THE INTERIOR

Bureau of Land Management

[MT-030-1430-HN; NDM 032161]

Opening Order for Reconveyed Land; North Dakota

AGENCY: Bureau of Land Management, Interior.

ACTION: Notice.

SUMMARY: This order opens 3.61 acres of reconveyed land to appropriation under the public land laws.

DATES: Effective Date: November 23, 2007.

FOR FURTHER INFORMATION CONTACT: Linda Gisvold, Bureau of Land Management, North Dakota Field Office, 99 23rd Avenue West, Suite A, Dickinson, ND 58601, (701) 227-7711.

SUPPLEMENTARY INFORMATION: The land described below was patented under the Recreation and Public Purposes Act. The patentee no longer needed the land and agreed to a voluntary relinquishment. A quitclaim deed was issued to the United States on August 2, 2006.

Fifth Principal Meridian

T. 138 N., R. 80 W.,

Sec. 34, lot 18.

The area described contains 3.61 acres.

At 8 a.m. on November 23, 2007, the land will be opened to the operation of the public land laws generally, subject to valid existing rights, the provisions of existing withdrawals, other segregations of record, and the requirements of applicable law. All valid applications received at or after 8 a.m. on November 23, 2007, shall be considered as simultaneously filed at that time. Those received thereafter shall be considered in the order of filing.

Dated: November 16, 2007.
Theresa M. Hanley,
Deputy State Director, Division of Resources.

[FR Doc. E7-22813 Filed 11-21-07; 8:45 am]

BILLING CODE 4310-$$-P